ENVIRONMENTAL PROTECTION AGENCY

[FRL-7499-5]

Notice of Proposed Administrative Order on Consent Pursuant to Section 122(g)(4) and (7) of the Comprehensive Environmental Response, Compensation, and Liability Act (CERCLA), PCB Treatment, Inc., Kansas City, KS, and Kansas City, MO, Docket No. CERCLA 07-2002-0209

AGENCY: Environmental Protection Agency.

ACTION: Notice of Proposed Administrative Order on Consent, PCB Treatment, Inc. Superfund Site, Kansas City, Kansas, and Kansas City, Missouri

SUMMARY: Notice is hereby given that a proposed administrative order on consent between Transformer Services, Inc. and the United States Environmental Protection Agency (EPA) was signed by the United States Environmental Protection Agency (EPA) on March 21, 2003 and approved by the United States Department of Justice (DOJ) on April 16, 2003. This settlement relates to the PCB Treatment Inc. Superfund Site (Site).

DATES: EPA will receive, for a period of thirty (30) days from the date of this publication, comments relating to the proposed agreement.

ADDRESSES: Comments should be addressed to Audrey Asher, Senior Assistant Regional Counsel, United States Environmental Protection Agency, Region VII, 901 N. Fifth Street, Kansas City, Kansas 66101 and should refer to the PCB Treatment, Inc. Superfund Site Administrative Order on Consent, CERCLA Docket No. 07-2002-0209.

The proposed agreement may be examined or obtained in person or by mail at the office of the United States Environmental Protection Agency, Region VII, 901 North Fifth Street, Kansas City, KS 66101 (913) 551-7255.

SUPPLEMENTARY INFORMATION: The Site consists of two facilities, about two miles apart, located in the industrial areas of Kansas City, Kansas at 45 Ewing Street and Kansas City, Missouri at 2100 Wyandotte Street. The facilities were formerly operated by PCB Treatment Inc., now a defunct corporation. Between 1982 and 1987, PCB Treatment, Inc. and its subsidiaries or affiliates treated and stored PCBs contained in used transformers, capacitors, oil, equipment, and other materials at the Wyandotte facility and the Ewing facility. During its period of operations, spills of PCB contaminated waste occurred.

Samples collected at the Site in the late 1990s indicated that the PCB contamination at Ewing Street exceeded 1,790 parts per million (ppm) in the building and 1,450 ppm in the soils. At Wyandotte Street, the PCB contamination exceeded 23,800 ppm in the building and 800 ppm in the soils.

Over 1000 parties arranged for disposal of PCB wastes at the Site. EPA identified a large number of these parties, including Transformer Services, Inc., as de minimis parties. EPA offered settlements to the de minimis parties based on their allocated share of the waste plus a premium. The payments by the de minimis parties have been placed in a Special Account that will be used towards the cleanup of the Site, estimated to cost $35,000,000. Based on financial information submitted by Transformer Services, Inc., EPA determined that Transformer Services, Inc. demonstrated an inability to pay its allocated share, and qualifies for a reduction in the settlement amount. This proposed settlement requires Transformer Services, Inc. to pay $44,000 to resolve its liability at the Site. Through this settlement, and subject to certain reopeners, EPA covenants not to sue Transformer Services, Inc. for injunctive relief or response costs concerning the Site. In addition, Transformer Services, Inc. receives contribution protection for matters addressed in the settlement.

Dated: May 2, 2003.
Gale Hutton,
Acting Regional Administrator, United States Environmental Protection Agency, Region VII.

[FR Doc. 03-12352 Filed 5-15-03; 8:45 am]

BILLING CODE 6560-50-P